INTERNATIONAL TRADE COMMISSION

[Investigation Nos. 701-TA-456 and 731-TA-1151-1152 (Final)]

Citric Acid and Certain Citrate Salts From Canada and China

Determinations

On the basis of the record ¹ developed in the subject investigations, the United States International Trade Commission (Commission) determines, pursuant to sections 705(b) and 735(b) of the Tariff Act of 1930 (19 U.S.C. 1671d(b) and 1673d(b)) (the Act), that an industry in the United States is materially injured ² by reason of imports from Canada and China of citric acid and certain citrate salts, provided for in subheadings 2918.14.00, 2918.15.10, and 2918.15.50 of the Harmonized Tariff Schedule of the United States, that have been found by the Department of Commerce (Commerce) to be subsidized by the Government of China and to be sold in the United States at less than fair value (LTFV).

¹ The record is defined in sec. 207.2(f) of the Commission's Rules of Practice and Procedure (19 CFR 207.2(f)).

² Chairman Shara L. Aranoff, Vice Chairman Daniel R. Pearson, and Commissioner Deanna Tanner Okun determined that an industry in the United States is not materially injured or threatened with material injury by reason of imports from Canada and China of citric acid and certain citrate salts.

Background

The Commission instituted these investigations effective April 14, 2008, following receipt of a petition filed with the Commission and Commerce by Archer Daniels Midland Co., Decatur, IL; Cargill, Inc., Wayzata, MN; and Tate & Lyle Americas, Inc., Decatur, IL. The final phase of the investigations was scheduled by the Commission following notification of preliminary determinations by Commerce that imports of citric acid and certain citrate salts from China were being subsidized within the meaning of section 703(b) of the Act (19 U.S.C. 1671b(b)) and that imports of citric acid and certain citrate salts from Canada and China were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of December 4, 2008 (73 FR 73955). The hearing was held in Washington, DC, on April 7, 2009, and all persons who requested the opportunity were permitted to appear in person or by counsel.

The Commission transmitted its determinations in these investigations to the Secretary of Commerce on May 22, 2009. The views of the Commission are contained in USITC Publication 4076 (May 2009), entitled Citric Acid and Certain Citrate Salts from Canada and China: Investigation Nos. 701-TA-456 and 731-TA-1151-1152 (Final).

Issued: May 22, 2009.
By order of the Commission.
Marilyn R. Abbott,
Secretary to the Commission.

[FR Doc. E9-12466 Filed 5-28-09; 8:45 am]

BILLING CODE 7020-02-P